ENVIRONMENTAL PROTECTION AGENCY

[FRL-9297-5]

Notification of a Public Teleconference of the Science Advisory Board; Drinking Water Committee Augmented for the Review of the Effectiveness of Partial Lead Service Line Replacements

AGENCY: Environmental Protection Agency (EPA).

ACTION: Notice.

SUMMARY: The EPA Science Advisory Board (SAB) Staff Office announces a public teleconference of the SAB Drinking Water Committee Augmented for the Review of the Effectiveness of Partial Lead Service Line Replacements (hereafter referred to as the “DWC Lead Review Panel”) to discuss its draft advisory report entitled “SAB Evaluation of the Effectiveness of Partial Lead Service Line Replacements.”

DATES: The SAB DWC Lead Review Panel will conduct a public teleconference on May 16, 2011. The teleconference will begin at 1 p.m. and end at 5 p.m. (Eastern Time).

ADDRESSES: The teleconference will be conducted by telephone only.

FOR FURTHER INFORMATION CONTACT: Any member of the public wishing to obtain general information concerning the public teleconference may contact Mr. Aaron Yeow, Designated Federal Officer (DFO), via telephone at (202) 564-2050 or e-mail at yeow.aaron@epa.gov. General information concerning the EPA Science Advisory Board can be found on the EPA Web site at http://www.epa.gov/sab.

SUPPLEMENTARY INFORMATION: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C., App. 2. Pursuant to FACA and EPA policy, notice is hereby given that the SAB DWC Lead Review Panel, a subcommittee of the SAB, will hold a public meeting to discuss a draft advisory report. The SAB DWC Lead Review Panel and the SAB will comply with the provisions of FACA and all appropriate SAB Staff Office procedural policies.

Background: Exposure to lead through drinking water results primarily from the corrosion of lead pipes and plumbing materials. EPA's Office of Water (OW) promulgated the Lead and Copper Rule (LCR) to minimize the amount of lead in drinking water. The LCR requires water systems that are not able to limit lead corrosion through treatment to replace the portion of the lead service line that it owns. When a water system replaces only a portion of the lead service line (the portion it owns), this is referred to as a partial lead service line replacement. OW has requested the SAB to review and provide advice on recent studies examining the effectiveness of partial lead service line replacements. OW sought advice from the SAB DWC Lead Review Panel on March 30-31, 2011 [see Federal Register Notice dated March 10, 2011 (76 FR 13181-13182)]. Materials from the March 30-31, 2011 meeting are posted on the SAB Web site at http://yosemite.epa.gov/sab/sabproduct.nsf/MeetingCal/575DA9AD713DB98B852578410068B1C4?OpenDocument.

The purpose of the upcoming teleconference is for the SAB DWC Lead Review Panel to discuss its draft advisory report. A meeting agenda and the draft SAB review report will be posted at the above noted SAB Web site in advance of the meeting.

Availability of Meeting Materials: Agendas and materials in support of the teleconference will be placed on the SAB Web site at http://www.epa.gov/sab in advance of the teleconference.

Procedures for Providing Public Input: Public comment for consideration by EPA's Federal advisory committees and panels has a different purpose from public comment provided to EPA program offices. Therefore, the process for submitting comments to a Federal advisory committee is different from the process used to submit comments to an EPA program office.

Federal advisory committees and panels, including scientific advisory committees, provide independent advice to EPA. Members of the public can submit comments for a Federal advisory committee to consider as it develops advice for EPA. Input from the public to the SAB will have the most impact if it provides specific scientific or technical information or analysis for SAB panels to consider or if it relates to the clarity or accuracy of the technical information. Members of the public wishing to provide comment should contact the Designated Federal Officer directly.

Oral Statements: In general, individuals or groups requesting an oral presentation at a teleconference will be limited to three minutes. Interested parties should contact Mr. Aaron Yeow, DFO, in writing (preferably via e-mail) at the contact information noted above by May 12, 2011, to be placed on the list of public speakers for the teleconference.

Written Statements: Written statements should be supplied to the DFO via e-mail at the contact information noted above by May 12, 2011 for the teleconference so that the information may be made available to the Panel members for their consideration. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Aaron Yeow at (202) 564-2050 or yeow.aaron@epa.gov. To request accommodation of a disability, please contact Mr. Yeow preferably at least ten days prior to the teleconference to give EPA as much time as possible to process your request.

Dated: April 13, 2011.
Anthony Maciorowski,
Deputy Director, EPA Science Advisory Staff Office.

[FR Doc. 2011-9566 Filed 4-19-11; 8:45 am]

BILLING CODE 6560-50-P